DEPARTMENT OF DEFENSE

Department of the Army

Performance Review Board Membership for the Office of the Secretary of the Army

Correction

In notice document 03-30365 beginning on page 68359 in the issue of Monday, December 8, 2003, make the following corrections:

1. On page 68359, in the second column, in paragraph 23, in the first line “Mr. Mat Reres” should read “Mr. Matt Reres.”

2. On the same page, in the third column, in paragraph 36, in the first line, “MG David F. Wherely, Jr.” should read “MG David F. Wherley, Jr.”

3. On the same page, in the same column, in paragraph 41, in the second line, “Coast Analysis” should read “Cost Analysis.”

[FR Doc. C3-30365 Filed 12-11-03; 8:45 am]

BILLING CODE 1505-01-D